DEPARTMENT OF ENERGY

Federal Energy Regulatory Commission

[Docket No. AD10-12-000]

Increasing Market and Planning Efficiency Through Improved Software; Notice Establishing Date for Comments

July 27, 2010.

In June 2010, Commission staff convened the following technical conferences regarding models and software related to wholesale electricity markets and planning: ¹

¹ Notice of Technical Conference to Discuss Increasing Market and Planning Efficiency Through Improved Software, 75 FR 27,341 (2010).

June 2-3 Enhanced Unit-Commitment Models.

June 9-10 Enhanced Wide-Area Planning Models.

June 23-24 Enhanced Optimal Power Flow Models.

Parties wishing to submit written comments regarding the matters discussed at the technical conferences should submit their comments in Docket No. AD10-12-000 on or before September 10, 2010.

Kimberly D. Bose,
Secretary.

[FR Doc. 2010-18967 Filed 8-2-10; 8:45 am]

BILLING CODE 6717-01-P